DEPARTMENT OF COMMERCE

National Oceanic and Atmospheric Administration

RIN 0648-XG532

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held November 6 and 7, 2018, from 8:30 a.m. to 5 p.m., and November 8, from 8:30 a.m. to 1 p.m.

ADDRESSES: The meeting will be held at the Sheraton Silver Spring Hotel, 8777 Georgia Ave., Silver Spring, MD 20910; 301-589-0800.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and updates and to discuss policies and guidance on the following topics: Building consumer confidence and support for U.S. seafood; recreational fisheries and fishing effort surveys; Saltonstall Kennedy grant objectives and processes; Columbia Basin Partnership Task Force efforts on the conservation and restoration of salmon and steelhead; aquaculture; and the budget outlook for FY2019. MAFAC will discuss various administrative and organizational matters, and meetings of subcommittees and working groups will be convened.

Special Accommodations

The meeting is physically accessible to people with disabilities. Requests for sign language interpretation or other auxiliary aids should be directed to Heidi Lovett; 301-427-8034 by October 26, 2018.

Dated: October 9, 2018.
Jennifer Lukens,
Director for the Office of Policy, National Marine Fisheries Service.

[FR Doc. 2018-22251 Filed 10-11-18; 8:45 am]

BILLING CODE 3510-22-P